DEPARTMENT OF DEFENSE

Department of the Army

Availability for Non-Exclusive, Exclusive, or Partially Exclusive Licensing of U.S. Patent Concerning Antileishmanial Composition for Topical Application

AGENCY: Army Medical Research and Materiel Command, DOD.

ACTION: Notice.

SUMMARY: In accordance with 37 CFR 404.6, announcement is made of the availability for licensing of U.S. Patent No. 6,284,739 entitled “Antileishmanial Composition for Topical Application” issued Sept. 4, 2001. Foreign rights are also available (PCT/US98/08979). The United States Government as represented by the Secretary of the Army has rights in this invention.

ADDRESSES: Commander, U.S. Army Medical Research and Materiel Command, ATTN: Command Judge Advocate MCMR-JA, 504 Scott Street, Fort Detrick, Frederick, Maryland 21702-5012.

FOR FURTHER INFORMATION CONTACT: For patent issues, Ms. Elizabeth Arwine, Patent Attorney, (301) 619-7808. For issuing issues, Dr. Paul Mele, Office of Research & Technology Assessment (301) 619-6664. Both at telefax (301) 619-5034.

SUPPLEMENTARY INFORMATION: The instant invention provides compositions containing as active agents paromomycin in combination with gentamicin. When given in combination, the compositions appear much more effective than when given alone. Furthermore, the compositions of the invention were found to be effective against several species of Leishmania that were not effectively inhibited by the prior art compositions.

Luz D. Ortiz,
Army Federal Register Liaison Officer.

[FR Doc. 01-27867 Filed 11-5-01; 8:45 am]

BILLING CODE 3710-08-M